DEPARTMENT OF TRANSPORTATION

Federal Aviation Administration

14 CFR Part 71

Proposed Modification of the Detroit, MI, Class B Airspace Area; Public Meetings

AGENCY: Federal Aviation Administration (FAA), DOT.

ACTION: Notice of public meetings.

SUMMARY: This notice announces three fact-finding informal airspace meetings to solicit information from airspace users and others concerning a proposal to revise the Class B airspace area at Detroit, MI. The purpose of these meetings is to provide interested parties an opportunity to present views, recommendations, and comments on the proposal. All comments received during these meetings will be considered prior to any revision or issuance of a notice of proposed rulemaking.

DATES: The informal airspace meetings will be held on Tuesday, July 20, 2010, at 1:30 p.m.; Wednesday, July 21, 2010, at 5 p.m.; and Thursday, July 22, 2010, at 7:30 p.m. Comments must be received on or before September 6, 2010.

ADDRESSES: (1) The meeting on Tuesday, July 20, 2010, will be held at Troy Holiday Inn, 2537 Rochester Court, Troy, MI 48083. (2) The meeting on Wednesday, July 21, 2010, will be held at Eastern Michigan University, Student Event Center, Ballroom B, 2nd Floor, 900 Oakwood Street, Ypsilanti, MI 48197. (3) The meeting on Thursday, July 22, 2010, will be held at Monroe Holiday Inn Express, 1225 North Dixie Highway, Monroe, MI 48162.

Comments: Send comments on the proposal, in triplicate, to: Anthony D. Roetzel, Manager, Operations Support Group, Central Service Center, Air Traffic Organization, Federal Aviation Administration, 2601 Meacham Boulevard, Fort Worth, Texas 76137, or by fax to (817) 321-7649.

FOR FURTHER INFORMATION CONTACT: Tim Funari, FAA Detroit Metro (DTW) ATCT, Building 801, Detroit Metro Airport, Detroit, MI 48242; (734) 955-5000.

SUPPLEMENTARY INFORMATION:

Meeting Procedures

(a) Doors open 30 minutes prior to the beginning of each meeting. The meetings will be informal in nature and will be conducted by one or more representatives of the FAA Central Service Center. A representative from the FAA will present a briefing on the planned modification to the Class B airspace at Detroit, MI. Each participant will be given an opportunity to deliver comments or make a presentation, although a time limit may be imposed. Only comments concerning the plan to modify the Class B airspace area at Detroit, MI, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meeting will be filed in the docket.

Agenda for the Meetings

—Sign-in.

—Presentation of meeting procedures.

—FAA explanation of the planned Class B airspace area modifications.

—Solicitation of public comments.

—Closing comments.

Issued in Washington, DC, on May 6, 2010.
Edith V. Parish,
Manager, Airspace and Rules Group.

[FR Doc. 2010-11496 Filed 5-12-10; 8:45 am]

BILLING CODE 4910-13-P